DEPARTMENT OF HOMELAND SECURITY

U.S. Citizenship and Immigration Services

[CIS No. 2681; DHS Docket No. USCIS-2013-0001]

RIN 1615-ZB72

Extension and Redesignation of Syria for Temporary Protected Status—Correction

AGENCY: U.S. Citizenship and Immigration Services (USCIS), Department of Homeland Security (DHS).

ACTION: Notice; correction.

SUMMARY: U.S. Citizenship and Immigration Services (USCIS), a component of the Department of Homeland Security (DHS), is making a correction to the notice titled “Extension and Redesignation of Syria for Temporary Protected Status” that published in the Federal Register on August 1, 2022, at 87 FR 46982. USCIS is correcting an omission in the “Why is the Secretary extending the TPS designation for Syria and simultaneously redesignating Syria for TPS through March 31, 2024?” section of the notice to add March 31 as the complete date through which Syria should be simultaneously extended and redesignated for TPS.

FOR FURTHER INFORMATION CONTACT:

• You may contact Rená Cutlip-Mason, Chief, Humanitarian Affairs Division, Office of Policy and Strategy, U.S. Citizenship and Immigration Services, U.S. Department of Homeland Security, by mail at 5900 Capital Gateway Drive, Camp Springs, MD 20746, or by phone at 800-375-5283.

• For further information on TPS, including guidance on the registration and re-registration process and additional information on eligibility, please visit the USCIS TPS web page at http://www.uscis.gov/tps. You can find specific information about this extension of Syria's TPS designation by selecting “Syria” from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at uscis.gov, or visit the USCIS Contact Center at uscis.gov/contactcenter.

• Further information will also be available at local USCIS offices upon publication of this Notice.

SUPPLEMENTARY INFORMATION: On August 1, 2022, DHS published a notice in the Federal Register at 87 FR 46982. USCIS is making a correction to that published notice. The correction is as follows:

On page 46987, under the section “Why is the Secretary extending the TPS designation for Syria and simultaneously redesignating Syria for TPS through March 31, 2024?” USCIS is correcting the fifth bullet point to add the correct end date, March 31, 2024 through which Syria should be simultaneously extended and redesignated for TPS.

Correction

In FR 2022-16508, on page 46987 in the Federal Register of August 1, 2022, in the second column, USCIS is correcting the fifth bullet point as follows:

Due to the conditions described above, Syria should be simultaneously extended and redesignated for TPS effective October 1, 2022, through March 31, 2024. See section 244(b)(1)(A) and (C) and (b)(2) of the Act, 8 U.S.C. 1254a(b)(1)(A) and (C) and (b)(2).

Samantha Deshommes,
Chief, Regulatory Coordination Division, Office of Policy and Strategy, U.S. Citizenship and Immigration Services, U.S. Department of Homeland Security.

[FR Doc. 2022-17931 Filed 8-18-22; 8:45 am]

BILLING CODE 9111-97-P